NUCLEAR REGULATORY COMMISSION

Advisory Committee on the Medical Uses of Isotopes: Meeting Notice

AGENCY: Nuclear Regulatory Commission.

ACTION: Updated notice of meeting.

SUMMARY: The U.S. Nuclear Regulatory Commission will convene a meeting of the Advisory Committee on the Medical Uses of Isotopes (ACMUI) on April 25 and 26, 2006. A sample of agenda items to be discussed during the public sessions includes: (1) Updates on Proposed Regulations to Include Discrete Radium Sources and Accelerator-Produced Radioactive Materials in 10 CFR Part 35; (2) RIS on Visitor Dose Limits; (3) Part 35, Training and Experience; (4) Supply of High Enriched Uranium for Molybdenum-99 Generation; (5) Training and Experience for Use of Microspheres for Therapy; (6) ACMUI Review of Medical Events Involving I-131. To review the agenda see: http://www.nrc.gov/reading-rm/doc-collections/acmui/agenda/ or contact, via e-mail: mss@nrc.gov.

Purpose: Discuss issues related to 10 CFR 35, Medical Use of Byproduct Material.

Date and Time for Closed Session Meeting: April 25, 2006, from 8 a.m. to 10:15 a.m. This session will be closed so that NRC staff can brief the ACMUI on information relating solely to internal personnel rules and can discuss protected information of an investigatory nature. Time may be added to the closed session or an additional closed session may be added as needed.

Dates and Times for Public Meetings: April 25, 2006, from 10:30 a.m. to 5 p.m.; and April 26, 2006, from 8 a.m. to 11:30 a.m.

ADDRESSES: Address for Public Meetings: The meeting will be held at National Institute of Health (NIH). The address and room number is below: National Institute of Health, Natcher Conference Center, 45 Center Drive, Bethesda, MD 20892.

April 25—Balcony B.

April 26—Room E1/E2.

Security on the NIH Campus

All non-NIH employees are required to provide picture IDs upon entering the campus whether walking on to campus or driving on to campus, and all belongings are subject to searches. Increased security procedures are in place at all entrances to the NIH campus, including drive-in and walk-in access gates. Please allow adequate time when making your plans to attend the conference functions at the Natcher Conference Center. Preregistration will expedite the security process. Visitor parking is extremely limited and driving to the NIH campus for this event is not recommended.

Metrorail Service and Map

The NIH Campus is very accessible by the Washington D.C. area Metrorail (Metro) system. The Natcher Conference Center (Building 45) is located a short walk from the Medical Center Metro stop located on the Red Line. Note the signs and directions to the gated campus security entrance located behind the metro stop. For more details about the Washington DC area Metrorail services and stops, please visit http://www.wmata.com/ or go directly to http://www.wmata.com/metrorail/systemmap.cfm for an overview map of the metro stops. For more information on shuttle bus services to the NIH campus, please visit http://dtts.ors.od.nih.gov/NIHShuttle/scripts/shuttle_map_live.asp.

Driving to the NIH Campus

If you will be driving to the NIH campus, please note that all non-NIH registered vehicles must enter at the Rockville Pike-South Drive or Georgetown Road-Center Drive entrance for inspection. Follow the direction signs to Building 45. Please allow extra time for compliance with these security measures. Visitors must park in designated visitor parking lots. Visitor Parking is extremely difficult to find at NIH. Visitor parking at the Natcher Conference Center is available at $12 per day; however, parking is limited and visitors to the NIH campus are encouraged to take public transportation. For a detailed map of the NIH campus please visit http://dtts.ors.od.nih.gov/visitor_access_map.htm.

FOR FURTHER INFORMATION CONTACT: Mohammad S. Saba, telephone (301) 415-7608; e-mail mss@nrc.gov of the Office of Nuclear Material Safety and Safeguards, U.S. Nuclear Regulatory Commission, Washington, DC 20555-0001.

Conduct of the Meeting

Leon S. Malmud, M.D., will chair the meeting. Dr. Malmud will conduct the meeting in a manner that will facilitate the orderly conduct of business. The following procedures apply to public participation in the meeting:

1. Persons who wish to provide a written statement should submit a reproducible copy to Mohammad S. Saba, U.S. Nuclear Regulatory Commission, Mail Stop T8F03, Washington DC 20555. Alternatively, an e-mail can be submitted to mss@nrc.gov. Submittals must be postmarked or e-mailed by April 23, 2006, and must pertain to the topics on the agenda for the meeting.

2. Questions from members of the public will be permitted during the meeting, at the discretion of the Chairman.

3. The transcript and written comments will be available for inspection on NRC's Web site (http://www.nrc.gov) and at the NRC Public Document Room, 11555 Rockville Pike, Rockville, MD 20852-2738, telephone (800) 397-4209, on or about July 20, 2006.

This meeting will be held in accordance with the Atomic Energy Act of 1954, as amended (primarily Section 161a); the Federal Advisory Committee Act (5 U.S.C. App); and the Commission's regulations in Title 10, U.S. Code of Federal Regulations, Part 7.

Dated at Rockville, Maryland, this 4th day of April, 2006.
For the Nuclear Regulatory Commission.
Andrew L. Bates,
Advisory Committee Management Officer.

[FR Doc. E6-5254 Filed 4-10-06; 8:45 am]

BILLING CODE 7590-01-P